DEPARTMENT OF ENERGY

Federal Energy Regulatory Commission

[Project No. 2169-022]

Notice of Applications for Non-Project Use of Project Lands and Soliciting Comments, Motions To Intervene, and Protests

August 18, 2003.

Take notice that the following application has been filed with the Commission and is available for public inspection:

a. Application Type: Non-Project Use of Project Lands.

b. Project No: 2169-022.

c. Date Filed: March 13, 2003.

d. Applicant: Alcoa Power Generating Inc., Tapoco Division (Tapoco).

e. Name of Project: Tapoco Hydroelectric Project.

f. Location: The project is located on the Cheoah and Little Tennessee Rivers, in Blount and Monroe Counties, Tennessee, and Graham and Swain Counties, North Carolina. The project consists of four developments: Chilhowee, Cheoah, Santeetlah, and Calderwood.

g. Filed Pursuant to: Federal Power Act, 16 U.S.C. 791 (a) 825(r) and 799 and 801.

h. Applicant Contact: Mr. J. E. Adams, Tapoco, Inc., 300 N. Hall Road, Alcoa, TN 37701, (423) 977-3333.

i. FERC Contact: Any questions on this notice should be addressed to Ms. Shana High at (202) 502-8674, or e-mail address: shana.high@ferc.gov.

j. Deadline for filing comments and or motions: September 2, 2003.

All documents (original and eight copies) should be filed with: Ms. Magalie Roman Salas, Secretary, Federal Energy Regulatory Commission, 888 First Street, NE., Washington DC 20426. Please include the project number (P-2169-022) on any comments or motions filed. Comments, protests, and interventions may be filed electronically via the internet in lieu of paper. See 18 CFR 385.2001(a)(1)(iii) and the instructions on the Commission's Web site under the “e-Filing” link. The Commission strongly encourages e-filings.

k. Description of Request: Tapoco is seeking Commission authorization to issue a permit for non-project use of project lands and waters. The permit would be issued to modify the existing Santeetlah Marina, LLC. The proposed modification would increase mooring capacity from 100 to 180 watercraft, as needed, and would authorize construction of a new marina store. Santeetlah Marina, LLC is located on the Santeetlah Development, on the Cheoah and Little Tennessee Rivers in Graham and Swain Counties, North Carolina.

l. Location of the Applications: The filings are available for review at the Commission in the Public Reference Room , located at 888 First Street, NE., Room 2A, Washington, DC 20426, or may be viewed on the Commission's Web site at http://www.ferc.gov using the “eLibrary” link. Enter the docket number excluding the last three digits in the docket number field to access the document. For assistance, please call the Helpline at (866) 208-3676 or contact FERCONLINESUPPORT@ferc.gov. For TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-21528 Filed 8-21-03; 8:45 am]

BILLING CODE 6717-01-P